DEPARTMENT OF COMMERCE

National Institute of Standards and Technology

Proposed Information Collection; Comment Request; Manufacturing Extension Partnership (MEP) Management Information Reporting

AGENCY: National Institute of Standards and Technology (NIST).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506 (2)(A)).

Dates: Written comments must be submitted on or before April 24, 2006.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument(s) and instructions should be directed to Joe Giannamore, Economist, National Institute of Standards and Technology, Manufacturing Extension Partnership, 100 Bureau Drive, Stop 4800, Gaithersburg, MD 20899-4800, 301-975-4614 (phone) and 301-926-3787 (fax). In addition, written comments may be sent via e-mail to joseph.giannamore@nist.gov.

SUPPLEMENTARY INFORMATION:

I. Abstract

Sponsored by NIST, the Manufacturing Extension Partnership (MEP) is a national network of locally based manufacturing extension centers working with small manufacturers to help them improve their productivity, improve profitability and enhance their economic competitiveness.

The information is collected to provide the Manufacturing Extension Partnership (MEP) with information regarding MEP Center performance in the delivery of technology, and business solutions to U.S.-based manufacturers. The information obtained will assist in determining the performance of the MEP Centers at both a local and national level, as well as, the impact on the national economy. Responses to the collection of information are mandatory per the regulations governing the operation of the MEP Program (15 CFR parts 290, 291, 292, and H.R. 1274—section 2). No confidentiality for information submitted is promised or provided.

This collection under the Paperwork Reduction Act received prior Office of Management and Budget clearance in May 2003, and this clearance expires on May 31, 2006.

II. Method of Collection

Web forms will be used to collect and analyze a wide range of information from the MEP centers, which includes customer satisfaction, center activities, center staff, quarterly expenses and revenues, partners and affiliates strategic plan, operating plans, and client success stories.

III. Data

OMB Number: 0693-0032.

Form Number: None.

Type of Review: Regular submission.

Affected Public: Business or other for-profit organizations.

Estimated Number of Respondents: 59.

Estimated Time per Response: 127 hours.

Estimated Total Annual Burden Hours: 7,493.

Estimated Total Annual Cost: $374,650.

IV. Request for Comments

Comments are invited on: (a) Whether the proposed collection of information is necessary for the proper performance of the functions of the agency, including whether the information shall have practical utility; (b) the accuracy of the agency's estimate of the burden (including hours and costs) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they will also become a matter of public record.

Dated: February 16, 2006.
Gwellnar Banks,
Management Analyst, Office of the Chief Information Officer.

[FR Doc. E6-2524 Filed 2-22-06; 8:45 am]

BILLING CODE 3510-13-P